DEPARTMENT OF THE TREASURY

Submission for OMB Review; Comment Request

December 8, 2011.

The Department of the Treasury will submit the following information collection request to the Office of Management and Budget (OMB) for review and clearance in accordance with the Paperwork Reduction Act of 1995, Public Law 104-13, on or after the date of publication of this notice.

DATES: Comments should be received on or before January 12, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 11020, Washington, DC 20220, or on-line at http://www.PRAComment.gov.

FOR FURTHER INFORMATION CONTACT: Copies of the submission(s) may be obtained by calling (202) 927-5331, email at PRA@treasury.gov, or the entire information collection request maybe found at http://www.reginfo.gov.

Community Development Financial Instutitions (CDFI) Fund

OMB Number: 1559-0040.

Type of Review: Reinstatement with change of a previously approved collection.

Title: Healthy Food Financing Initiative (HFFI).

Abstract: The questionnaire will be used by CDFI Program applicants to apply for additional funding under the Healthy Food Financing Initiative (HFFI). The questions that the supplemental questionnaire contains, and the information generated thereby, will enable the Fund to evaluate applicants' activities and determine the extent of applicants' eligibility for a CDFI HFFI-FA award. The information collected will be used to select awardees, based on a merit-based selection process. The requested information is required by the CDFI Program Regulations (12 CFR Part 1805) and the respective Notice of Funds Availability.

Affected Public: Private Sector: Businesses or other for-profits; not for-profit institutions.

Estimated Total Annual Burden Hours: 600.

Dawn D. Wolfgang,
Treasury PRA Clearance Officer.

[FR Doc. 2011-31932 Filed 12-12-11; 8:45 am]

BILLING CODE 4810-70-P